INTERNATIONAL TRADE COMMISSION

[Inv. No. 337-TA-488]

In the Matter of Certain Screen Printing Machines, Vision Alignment Devices Used Therein, and Component Parts Thereof; Notice of Commission Decision Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) terminating the above-captioned investigation in its entirety based on a settlement agreement.

FOR FURTHER INFORMATION CONTACT: Michael Liberman, Esq., Office of the General saCounsel, U.S. International Trade Commission, 500 E Street, SW, Washington, DC 20436, telephone (202) 205-3115. Copies of the public version of the ALJ's ID and all other nonconfidential documents filed in connection with this investigation are or will be available for inspection during official business hours (8:45 a.m. to 5:15 p.m.) in the Office of the Secretary, U.S. International Trade Commission, 500 E Street, SW, Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission instituted this investigation on February 26, 2003, based on a complaint filed by Speedline Technologies, Inc. (“Speedline”) against EKRA America, Inc., and EKRA Eduard Kraft GmbH (collectively, “EKRA”). The complaint alleged violations of section 337 of the Tariff Act of 1930 in the importation into the United States, sale for importation, and/or sale within the United States after importation of certain screen printing machines, vision alignment devices used therein, and component parts thereof by reason of infringement of claims 1, 2, 3, 4, and 18 of U.S. Patent No. 5,060,063. 68 FR 8924 (Feb. 26, 2003).

On June 27, 2003, complainant Speedline and respondents EKRA filed a joint motion to terminate the investigation based upon a settlement agreement. On July 9, 2003, the Commission investigative attorney filed a response supporting the joint motion. On July 10, 2003, the presiding ALJ issued an ID (Order No. 10) granting the joint motion. No party petitioned for review of the ID.

This action is taken under the authority of section 337 of the Tariff Act of 1930 (19 U.S.C. 1337) and § 210.42 of the Commission's rules of practice and procedure (19 CFR 210.42).

Issued: July 28, 2003.
By order of the Commission.
Marilyn R. Abbott,
Secretary to Commission.

[FR Doc. 03-19605 Filed 7-31-03; 8:45 am]

BILLING CODE 7020-00-P